DEPARTMENT OF TRANSPORTATION

Federal Aviation Administration

14 CFR Part 39

[Docket No. 2000-NM-290-AD; Amendment 39-12172; AD 2001-07-07]

RIN 2120-AA64

Airworthiness Directives; Fokker Model F.28 Mark 0070 and Mark 0100 Series Airplanes

AGENCY: Federal Aviation Administration, DOT.

ACTION: Final rule.

SUMMARY: This amendment supersedes an existing airworthiness directive (AD), applicable to all Fokker Model F.28 Mark 0070 and Mark 0100 series airplanes, that currently requires revising the Airplane Flight Manual (AFM) to provide the flightcrew with instructions not to arm the liftdumper system prior to commanding the landing gear to extend. For Model F.28 Mark 0100 series airplanes, the existing AD also requires modification of the grounds of the shielding of the wheelspeed sensor wiring of the main landing gear (MLG) and installation of new electrical grounds for the wheelspeed sensor channel of the anti-skid control box of the MLG. This amendment removes the previous revision of the AFM and requires a new limitation and a new warning. This amendment is prompted by issuance of mandatory continuing airworthiness information by a foreign civil airworthiness authority. The actions specified by this AD are intended to prevent inadvertent deployment of the liftdumpers during approach for landing or reduced brake pressure during low speed taxiing, and consequent reduced controllability and performance of the airplane.

DATES: Effective May 16, 2001.

The incorporation by reference of certain publications, as listed in the regulations, was approved previously by the Director of the Federal Register as of November 2, 1999 (64 FR 52219, September 28, 1999).

ADDRESSES: The service information referenced in this AD may be obtained from Fokker Services B.V., P.O. Box 231, 2150 AE Nieuw Vennep, the Netherlands. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Norman B. Martenson, Manager, International Branch, ANM-116, FAA, 1601 Lind Avenue, SW., Renton, Washington 98055-4056; telephone (425) 227-2110; fax (425) 227-1149.

SUPPLEMENTARY INFORMATION: A proposal to amend part 39 of the Federal Aviation Regulations (14 CFR part 39) by superseding AD 99-20-07, amendment 39-11337 (64 FR 52219, September 28, 1999), which is applicable to all Fokker Model F.28 Mark 0070 and Mark 0100 series airplanes, was published in the Federal Register on January 16, 2001 (66 FR 3518). The action proposed to continue to require modification of the grounds of the shielding of the wheelspeed sensor wiring of the main landing gear (MLG) and installation of new electrical grounds for the wheelspeed sensor channel of the anti-skid control box of the MLG. The action also proposed to remove the previously required revision of the Airplane Flight Manual (AFM) and would require a new limitation and a new warning.

Comments

Interested persons have been afforded an opportunity to participate in the making of this amendment. No comments were submitted in response to the proposal or the FAA's determination of the cost to the public.

Conclusion

The FAA has determined that air safety and the public interest require the adoption of the rule as proposed.

Cost Impact

There are approximately 123 airplanes of U.S. registry that will be affected by this AD.

The modifications that are currently required by AD 99-20-07 take approximately 33 work hours per airplane to accomplish, at an average labor rate of $60 per work hour. Required parts cost approximately $755 to $1,236 per airplane. Based on these figures, the cost impact of the currently required actions on U.S. operators is estimated to be between $336,405 and $395,568, or between $2,735 and $3,216 per airplane.

The revision to the AFM required in this AD will take approximately 1 work hour per airplane to accomplish, at an average labor rate of $60 per work hour. Based on these figures, the cost impact of the AFM revision required by this AD on U.S. operators is estimated to be $7,380, or $60 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-11337 (64 FR 52219, September 28, 1999), and by adding a new airworthiness directive (AD), amendment 39-12172, to read as follows:

2001-07-07 Fokker Services B.V.: Amendment 39-12172. Docket 2000-NM-290-AD. Supersedes AD 99-20-07, Amendment 39-11337.

Applicability: All Model F.28 Mark 0070 and Mark 0100 series airplanes, certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (d) of this AD. The request should include an assessment of the effect of the modification, alteration, or repair on the unsafe condition addressed by this AD; and, if the unsafe condition has not been eliminated, the request should include specific proposed actions to address it.

Compliance: Required as indicated, unless accomplished previously.

To prevent inadvertent deployment of the liftdumper systems during the approach for landing or reduced brake pressure during low speed taxiing, and consequent reduced controllability and performance of the airplane, accomplish the following:

Restatement of Certain Requirements of AD 99-20-07

Corrective Actions

(a) For Model F.28 Mark 0100 series airplanes having serial numbers as listed in Fokker Service Bulletin SBF100-32-067, Revision 1, dated July 6, 1998: Within 6 months after November 2, 1999 (the effective date of AD 99-20-07, amendment 39-11337), modify the grounds of the shielding of the wheelspeed sensor wiring of the main landing gear (MLG), in accordance with Part 1, 2, 3, or 4 of the Accomplishment Instructions of the service bulletin, as applicable.

Note 2: Modifications accomplished prior to November 2, 1999, in accordance with Fokker Service Bulletin SBF100-32-067, dated March 12, 1993, are considered acceptable for compliance with the requirements of paragraph (a) of this AD.

(b) For Model F.28 Mark 0100 series airplanes having serial numbers as listed in Fokker Service Bulletin SBF100-32-037, Revision 2, dated December 4, 1998: Within 12 months after November 2, 1999, install new electrical grounds for the wheelspeed sensor channel of the anti-skid control box of the MLG, in accordance with Part 1, 2, or 3 of the Accomplishment Instructions of the service bulletin, as applicable.

Note 3: Installations accomplished prior to November 2, 1999, in accordance with Fokker Service Bulletin SBF100-32-037, dated November 12, 1990, or Revision 1, dated November 16, 1998, are considered acceptable for compliance with the requirements of paragraph (b) of this AD.

New Actions Required by This AD:

Revision of the Airplane Flight Manual

(c) Within 10 days after the effective date of this AD, revise the Limitations and Normal Procedures sections of the FAA-approved Airplane Flight Manual (AFM), in accordance with paragraphs (c)(1), (c)(2), (c)(3) and (c)(4) of this AD. This may be accomplished by inserting a copy of this AD into the appropriate sections of the AFM.

(1) Remove the following information from the Limitations section:

“LIFTDUMPER SYSTEM

DO NOT ARM THE LIFTDUMPER SYSTEM BEFORE LANDING GEAR DOWN SELECTION.”

(2) Add the following information to the Limitations section in the Miscellaneous Limitations sub-section:

“FLIGHT CONTROLS

NORMAL OPERATION OF LIFTDUMPERS: DO NOT ARM THE LIFTDUMPER SYSTEM BEFORE LANDING GEAR IS DOWN AND LOCKED.”

(3) Remove the following information from Section 5—Normal Procedures, sub-section Approach and Landing, after the subject Approach:

“BEFORE LANDING

WARNING: DO NOT ARM THE LIFTDUMPER SYSTEM BEFORE LANDING GEAR DOWN SELECTION. Selecting Landing Gear DOWN after arming the liftdumper system may result in inadvertent deployment of the liftdumpers, because the liftdumper arming test may be partially ineffective.”

(4) Add the following information to Section 5—Normal Procedures, sub-section Approach and Landing, after the subject Approach:

“BEFORE LANDING

WARNING: DO NOT ARM THE LIFTDUMPER SYSTEM BEFORE LANDING GEAR IS DOWN AND LOCKED.”

Alternative Methods of Compliance

(d) An alternative method of compliance or adjustment of the compliance time that provides an acceptable level of safety may be used if approved by the Manager, International Branch, ANM-116, Transport Airplane Directorate, FAA. Operators shall submit their requests through an appropriate FAA Principal Maintenance Inspector, who may add comments and then send it to the Manager, International Branch, ANM-116.

Note 4: Information concerning the existence of approved alternative methods of compliance with this AD, if any, may be obtained from the International Branch, ANM-116.

Special Flight Permits

(e) Special flight permits may be issued in accordance with sections 21.197 and 21.199 of the Federal Aviation Regulations (14 CFR 21.197 and 21.199) to operate the airplane to a location where the requirements of this AD can be accomplished.

Incorporation by Reference

(f) Except for the AFM revisions required by paragraph (c) of this AD, the actions shall be done in accordance with Fokker Service Bulletin SBF100-32-067, Revision 1, dated July 6, 1998; and Fokker Service Bulletin SBF100-32-037, Revision 2, dated December 4, 1998; as applicable. This incorporation by reference was approved previously by the Director of the Federal Register as of November 2, 1999 (64 FR 52219, September 28, 1999). Copies may be obtained from Fokker Services B.V., P.O. Box 231, 2150 AE Nieuw Vennep, the Netherlands. Copies may be inspected at the FAA, Transport Airplane Directorate, 1601 Lind Avenue, SW., Renton, Washington; or at the Office of the Federal Register, 800 North Capitol Street, NW., suite 700, Washington, DC.

Note 5: The subject of this AD is addressed in Dutch airworthiness directive 1998-042/2, dated February 29, 2000.

Effective Date

(g) This amendment becomes effective on May 16, 2001.

Issued in Renton, Washington, on April 2, 2001.
Donald L. Riggin,
Acting Manager, Transport Airplane Directorate, Aircraft Certification Service.

[FR Doc. 01-8614 Filed 4-10-01; 8:45 am]

BILLING CODE 4910-13-U